GENERAL SERVICES ADMINISTRATION

[GSA Bulletin FMR 2008-B2]

Real Property Federal Asset Sales

AGENCY: General Services Administration.

ACTION: Notice of Bulletin.

SUMMARY: In 2001, the President's Management Council selected the Federal Asset Sales (eFAS) initiative as one of the President's Electronic Government initiatives. The eFAS initiative is designed to make it easier for citizens and businesses to locate available Government assets, both real and personal, from a single portal location. The attached Bulletin provides instructions to Federal agencies on the advertising and reporting of sales of Federally-owned real property in accordance with the eFAS initiative. The General Services Administration will be publishing the posting and reporting requirements described in the Bulletin in an amendment to the Federal Management Regulation shortly.

EFFECTIVE DATE: April 17, 2008.

FOR FURTHER INFORMATION CONTACT: Stanley Langfeld, Director, Regulations Management Division, Office of Governmentwide Policy, on 202-501-1737, or by sending an e-mail message to stanley.langfeld@gsa.gov.

Dated: April 9, 2008.
Kevin Messner,
Acting Associate Administrator, Office of Governmentwide Policy.

Real Property

TO: Heads of Federal agencies

SUBJECT: Real Property Federal Asset Sales

1. Purpose. This Bulletin provides general information to Federal agencies concerning the sale of Federally-owned real property in accordance with the Federal Asset Sales (eFAS) initiative, one of the President's Electronic Government (E-Gov) initiatives. It contains instructions requiring Federal agencies to utilize the Federal Asset Sales portal (GovSales.gov) when advertising surplus real property and provides instructions to Federal agencies for reporting sales of real property.

2. Expiration. This Bulletin contains information of a continuing nature and will remain in effect until canceled.

3. Background. Each year, the Federal Government disposes of real and personal property. In 2001, the President's Management Council selected the eFAS initiative as one of the President's E-Gov initiatives. Prior to 2001, Federal agencies used multiple methods to market excess property, making it difficult for the public to locate and buy surplus Federal assets. This initiative strives to simplify locating government assets for sale, and to improve the promotion of Government sales through a centralized, citizen-centric web portal solution. The vision of the eFAS portal solution is to create a secure, efficient and effective online single-point of entry for the public to seek Federally-owned real and personal property assets available for sale.

In September 2005, representatives from the Department of Agriculture (USDA), the Department of Housing and Urban Development (HUD), the Department of Veterans Affairs (VA), and the General Services Administration's (GSA) Public Buildings Service developed and launched the Real Property Asset Listing Portal, a web-based entry point designed to facilitate the sale of surplus Government real property assets. In October 2006, the GovSales.gov website was launched as part of the eFAS Presidential E-Gov initiative.

The Real Property Asset Listing Portal is now integrated with GovSales.gov and enables any Federal agency to advertise, in one place, its entire inventory of surplus, forfeited and foreclosed real property available for sale. The website provides the public with one location where specific types of real property (i.e., houses, buildings and land, and farms) offered for sale by Federal agencies can be found. In addition, the team engaged other Federal agencies that are authorized to dispose of real property to list their surplus property for sale on the portal. In September 2007, the Department of Justice, the Department of State and the Department of the Treasury also began posting forfeited real property on the portal.

4. Real Property eFAS Initiative—Roles and Responsibilities. There are three main groups of Federal participants associated with eFAS. The responsibilities of each are described below.

(a) eFAS Planning Office. This is the main coordinating body of the eFAS initiative. The Planning Office works with the initiative's governing body, the Executive Steering Committee, and its subgroups, the Personal Property Subcommittee, the Real Property Subcommittee, the Configuration Control Board, the Sales Agency Working Group, and the Communications Working Group. The Planning Office also serves as a central data aggregation point for the entire initiative, and is the primary communication mechanism with the Office of Management and Budget.

(b) Portal Sponsors. The four Portal Sponsor agencies and the areas of the portal that they support are:

• HUD—Homes, buildings and land;

• VA—Homes;

• USDA—Farms; and

• GSA—Homes, buildings and land.

These agencies contribute to the operation of the Portal and provide hosting, listing and support services to facilitate the efficient operation of the portal.

(c) Agencies.

(1) Posting on GovSales.gov. The four Portal Sponsors listed in subsection 4(b), above, began listing properties on the GovSales.gov website during FY 2007. The remaining President's Management Scorecard Agencies with real property disposal authority began listing properties for sale on the portal in the 4th Quarter of FY 2007.

(2) Reporting Requirements. The Portal Sponsors began reporting sales data and metrics for the 3rd Quarter of FY 2007 sixty (60) days after the end of that quarter (September 1, 2007). The remaining President's Management Scorecard Agencies began reporting sales data and metrics quarterly for the 4th Quarter of FY 2007 sixty (60) days after the end of that quarter (December 1, 2007). It is important to note that an agency is required to report its real property sales even if the property is sold on its behalf by GSA. When GSA sells property on behalf of another agency, GSA will provide information about that sale to that agency, so that the agency can meet its reporting requirements.

5. Posting and Reporting Instructions

(a) Posting. Posting of real property to the eFAS portal is done through the Real Property Asset Listing Portal, a web-based portal that is integrated with the eFAS Sales Portal through GovSales.gov. The Listing Portal, while operated by USDA, one of the Portal Sponsors, provides for the posting of all types of real property: houses, buildings and land, and farms. GSA will post property to the portal that it sells on behalf of itself or other agencies.

Posting instructions are contained in the Property Admin Web Application User Guide, which can be accessed from GSA's website at www.gsa.gov/govsales. The required data elements will vary depending on the type of property being advertised. Access to the USDA Listing Portal is provided at https://propertyadmin.sc.egov.usda.gov. Instructions for establishing user authentication (ID and password) and creating an agency account are provided through the website.

(b) Reporting. Reporting will be done Quarterly, by Fiscal Year. The Planning Office will be making a Quarterly data call to each of the President's Management Scorecard Agencies. Agencies will report the required sales performance information by submitting it to FASPlanningOffice@gsa.gov. The Quarterly reports will be submitted using an Excel-based template provided by the Planning Office during the data call. The reports will provide the following information on a Quarterly basis:

• Total number of agency real property assets sold;

• Total number of real property assets posted to the eFAS Portal;

• Total gross real property sales revenue;

• Percentage of real property assets sold equal to or greater than the Government's estimated fair market value;

• Cycle time; and

• Total net sales revenue.

6. Additional Information

Further information regarding this Bulletin may be obtained by sending an e-mail message to EFASPlanningOffice@gsa.gov. GSA will be publishing the posting and reporting requirements described in this Bulletin in an amendment to the Federal Management Regulation shortly.

Dated: April 9, 2008.

Kevin Messner,

Acting Associate Administrator, Office of Governmentwide Policy.

[FR Doc. E8-8312 Filed 4-16-08; 8:45 am]

BILLING CODE 6820-RH-P